DEPARTMENT OF THE INTERIOR

Bureau of Reclamation

California Bay-Delta Public Advisory Committee Charter Renewal

AGENCY: Bureau of Reclamation, Interior.

ACTION: Notice of charter renewal.

SUMMARY: This notice is published in accordance with Section 9(a)(2) of the Federal Advisory Committee Act of 1972 (Pub. L. 92-463). Following consultation with the General Services Administration, notice is hereby given that the Secretary of the Interior is renewing the charter for the California Bay-Delta Public Advisory Committee. The purpose of the Committee is to provide recommendations to the Secretary of the Interior, the Governor of California, the California Bay-Delta Authority, and other participating Federal agencies on implementation of the CALFED Bay-Delta Program (Program) as described in the Programmatic Record of Decision which outlines the long-term comprehensive solution for addressing the problems affecting the San Francisco Bay/Sacramento-San Joaquin Delta Estuary. The Committee will provide recommendations on implementation of each element of the Program through the completion of Stage 1 (first 7 years). Specific responsibilities of the Committee include: (1) Making recommendations on annual priorities and coordination of Program actions to achieve balanced implementation of the Program elements; (2) providing recommendations on effective integration of Program elements to provide continuous, balanced improvement of each of the Program objectives (ecosystem restoration, water quality, levee system integrity, and water supply reliability); (3) evaluating implementation of Program actions in Stage 1, including assessment of Program area performance; (4) reviewing and making recommendations on Program Plans and Annual Reports describing implementation of Program elements as set forth in the Programmatic Record of Decision to the Secretary, the Governor, the Congress, the California Legislature, the Authority, and other interested parties; (5) recommending Program actions taking into account recommendations from the Committee's subcommittees; and (6) liaison between the Committee's subcommittee, the State and Federal agencies, the Secretary and the Governor.

The Committee consists of 20 to 30 members who are appointed by the Secretary in consultation with the Governor.

FOR FURTHER INFORMATION CONTACT: Diane Buzard, CALFED Program Manager, 2800 Cottage Way, Sacramento, California 95821-1898, telephone (916) 978-5525.

The certification of Charter renewal is published below:

Certification

I hereby certify that Charter renewal of the California Bay-Delta Public Advisory Committee is in the public interest in connection with the performance of duties imposed on the Department of the Interior.

Gale A. Norton,
Secretary of the Interior.

[FR Doc. 03-20800 Filed 8-14-03; 8:45 am]

BILLING CODE 4310-MN-M